DEPARTMENT OF TRANSPORTATION

Federal Aviation Administration

14 CFR Part 91

[Docket No. 29508; Special Federal Aviation Regulation (SFAR) No. 84]

Removal of the Prohibition Against Certain Flights Within the Territory and Airspace of Serbia-Montenegro

AGENCY: Federal Aviation Administration (FAA), DOT.

ACTION: Final rule; removal.

SUMMARY: This action removes Special Federal Aviation Regulation (SFAR) No. 84, which prohibit flight operations within the territory and airspace of Serbia-Montenegro by any United States air carrier or commercial operator, by any person exercising the privileges of an airman certificate issued by the FAA except persons operating U.S.-registered aircraft for foreign air carriers, or by an operator using an aircraft registered in the United States unless the operator of such aircraft is a foreign air carrier. This action is taken because the North Atlantic Treaty Organization (NATO) has ceased air strikes against Serb forces in Serbia-Montenegro, which has reduced the threat of hostile actions against persons and aircraft engaged in flight operations within the airspace of Serbia-Montenegro.

EFFECTIVE DATE: March 24, 2000.

FOR FURTHER INFORMATION CONTACT: David Catey, Air Transportation Division, Flight Standards Service, Federal Aviation Administration, 800 Independence Avenue, SW, Washington, DC 20591. Telephone: (202) 267-8166.

SUPPLEMENTARY INFORMATION:

Availability of This Action

An electronic copy of this document may be downloaded, using a modem and suitable communications software, from the FAA regulations section of the Fedworld electronic bulletin board service (telephone: (703) 321-3339) or the Government Printing Office's (GPO) electronic bulletin board service (telephone: (202) 512-1661).

Internet users may reach the FAA's web page at http://www.faa.gov/avr/ arm/nprm/nprm.htm or the GPO's web page at http://www.access. gpo.gov/nara for access to recently published rulemaking documents.

Any person may obtain a copy of this document by submitting a request to the Federal Aviation Administration, Office of Rulemaking, ARM-1, 800 Independence Ave., SW, Wasington, DC 20591, or by calling (202) 267-9680. Communications must identify the docket number of this action.

Persons interested in being placed on the mailing list for future rules should request from the above office a copy of Advisory Circular No. 11-2A, Notice of Proposed Rulemaking Distribution System, which describes the application procedure.

Small Entity Inquiries

The Small Business Regulatory Enforcement Fairness Act (SBREFA) of 1996 requires the FAA to comply with small entity requests for information or advice about compliance with statutes and regulations within its jurisdiction. Therefore, any small entity that has a question regarding this document may contact their local FAA official. Internet users can find additional information on SBREFA on the FAA's web page at http://www.faa.gov/avr/arm/sbrefa.htm and may send electronic inquiries to the following Internet address: 9-AWA-SBREFA@faa.gov.

Background

From March 21, 1999, through June 10, 1999, NATO conducted air strikes against Serb military forces in Serbia-Montenegro. As a result, the FAA determined that the potential for hostile action against U.S. civil aircraft operating over the territory of Serbia-Montenegro warranted a prohibition of flight in that region. Accordingly, in exercising its statutory safety authority, the FAA issued a final rule prohibiting certain U.S. civil aircraft operations within the territory and airspace of Serbia-Montenegro. SFAR No. 84 prohibits flight operations within the territory and airspace of Serbia-Montenegro by any United States air carrier or commercial operator, by any person exercising the privileges of an airman certificate issued by the FAA, or by an operator using an aircraft registered in the United States unless the operator of such aircraft is a foreign air carrier.

Following the cessation of NATO air strikes on June 10, 1999, there has been a reduction in tensions. As a result, the FAA has determined that the risk of hostile military action against civil aircraft by armed elements in Serbia-Montenegro no longer exists. The FAA has determined that the territory of Serbia-Montenegro can be safely overflown by civil aircraft.

Regulatory Analyses

The FAA has determined that this action is not a “significant regulatory action” under Executive Order 12866, nor is it considered a “significant rule” under DOT Regulatory Policies and Procedures (44 FR 11034; February 26, 1979). Because this amendment removes a restriction that is no longer warranted, the FAA finds that notice and public procedure under 5 U.S.C. 553(b) are unnecessary. The FAA also certifies that this rule will not have a significant economic impact, positive or negative, on a substantial number of small entities under the criteria of the Regulatory Flexibility Act.

Therefore, on the basis of the foregoing information, I have determined that the immediate removal of SFAR 84 from 14 CFR Part 91 is appropriate. The Department of State has been advised of, and has no objection to, this action.

List of Subjects in 14 CFR Part 91

Air traffic control, Aircraft, Airmen, Airports, Aviation safety, Freight, Serbia-Montenegro.

The Amendment

For the reasons set forth above, the Federal Aviation Administration amends Part 91 of chapter I of title 14, of the Code of Federal Regulations by removing SFAR 84 as follows:

PART 91—GENERAL OPERATING AND FLIGHT RULES

1. The authority citation for part 91 continues to read as follows:

Authority: 49 U.S.C. 106(g), 40103, 40113, 40120, 44101, 44111, 44701, 44709, 44711, 44712, 44715, 44716, 44717, 44722, 46306, 46315, 46316, 46502, 46504, 46506, 46507-47122, 47508, 47528-47531.

PART 91 [AMENDED]

2. Special Federal Aviation Regulation No. 84 is removed.

Issued in Washington, DC, on March 21, 2000.
Jane F. Garvey,
Administrator.

[FR Doc. 00-7340 Filed 3-23-00; 8:45 am]

BILLING CODE 4910-13-M